SECURITIES AND EXCHANGE COMMISSION

[SEC File No. 270-287, OMB Control No. 3235-0324]

Submission for OMB Review; Comment Request; Extension: Form S-4

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget a request for extension of the previously approved collection of information discussed below.

Form S-4 (17 CFR 239.25) is the form used for registration under the Securities Act of 1933 (15 U.S.C. 77a et seq.) of securities issued in business combination transactions. The information collected is intended to ensure the adequacy of information available to investors in connection with business combination transactions. Form S-4 is a public document and all information provided is mandatory. Form S-4 takes approximately 3,820.89 hours per response to prepare and is filed by 588 registrants annually. We estimate that 25% of the 3,820.89 hours per response (955.223 hours) is prepared by the registrant for an annual reporting burden of 561,671 hours (955.223 hours per response × 588 responses).

An agency may conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by November 14, 2022 to (i) www.reginfo.gov/public/do/PRAMain and (ii) David Bottom, Director/Chief Information Officer, Securities and Exchange Commission, c/o John Pezzullo, 100 F Street NE, Washington, DC 20549, or by sending an email to: PRA_Mailbox@sec.gov.

Dated: October 5 2022.
J. Matthew DeLesDernier,
Deputy Secretary.

[FR Doc. 2022-22097 Filed 10-11-22; 8:45 am]

BILLING CODE 8011-01-P